DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of August 14, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Thomas County, Georgia and Incorporated Areas
Docket No.: FEMA-B-2207 and B-2337
City of Barwick | City Hall, 2090 Cedar Street, Barwick, GA 31720.
City of Pavo | City Hall, 1010 West Harris Street, Pavo, GA 31778.
Unincorporated Areas of Thomas County | Thomas County, Elijah Hill Jr. Services Center, 227 West Jefferson Street, Thomasville, GA 31799.
Marion County, Indiana (All Jurisdictions)
Docket No.: FEMA-B-2301
City of Indianapolis | City County Building, 200 E. Washington Street, Suite W122, Indianapolis, IN 46204.
Town of Speedway | Municipal Center, 5300 Crawfordsville Road, Speedway, IN 46224.
Breathitt County, Kentucky and Incorporated Areas
Docket No.: FEMA-B-2337
City of Jackson | City Hall, 333 Broadway Street, Jackson, Kentucky 41339.
Unincorporated Areas of Breathitt County | Breathitt County Courthouse, 1137 Main Street, Suite 205, Jackson, Kentucky 41339.
Knott County, Kentucky and Incorporated Areas
Docket No.: FEMA-B-2337
City of Hindman | City Hall, 10 Professor Clarke Circle, Hindman, Kentucky 41822.
Unincorporated Areas of Knott County | Knott County Courthouse, 54 West Main Street, Hindman, Kentucky 41822.
Lee County, Kentucky and Incorporated Areas
Docket No.: FEMA-B-2337
City of Beattyville | Lee County Courthouse, 256 Main Street, Beattyville, Kentucky 41311.
Unincorporated Areas of Lee County | Lee County Courthouse, 256 Main Street, Beattyville, Kentucky 41311.
Letcher County, Kentucky and Incorporated Areas
Docket No.: FEMA-B-2337
City of Fleming-Neon | City Hall, 1081 Highway 317, Fleming-Neon, Kentucky 41840.
City of Whitesburg | City Hall, 38 East Main Street, Whitesburg, Kentucky 41858.
Unincorporated Areas of Letcher County | Letcher County Courthouse, 156 Main Street, Suite 107, Whitesburg, Kentucky 41858.
Perry County, Kentucky and Incorporated
AreasDocket No.: FEMA-B-2337
City of Hazard | City Hall, 700 Main Street, Hazard, Kentucky 41701.
Unincorporated Areas of Perry County | Perry County Courthouse, 481 Main Street, 1st Floor, Hazard, Kentucky 41701.
Wolfe County, Kentucky and Incorporated Areas
Docket No.: FEMA-B-2337
Unincorporated Areas of Wolfe County | Wolfe County Courthouse, 16 Court Street, Campton, Kentucky 41301.
Sharkey County, Mississippi and Incorporated Areas
Docket No.: FEMA-B-2252
Town of Anguilla | Town Hall, 22 Rolling Fork Road, Anguilla, MS 38721
Unincorporated Areas of Sharkey County | Sharkey County Courthouse, 120 Locust Street, #5, Rolling Fork, MS 39159.
Cass County, Nebraska and Incorporated Areas
Docket No.: FEMA-B-2254
City of Plattsmouth | City Hall, 136 North 5th Street, Plattsmouth, NE 68048.
Unincorporated Areas of Cass County | Cass County Courthouse, 346 Main Street, Plattsmouth, NE 68048.
Coal County, Oklahoma and Incorporated Areas
Docket No.: FEMA-B-2243
Choctaw Nation of Oklahoma | Choctaw Nation of Oklahoma Headquarters, 1802 Chukka Hina, Durant, OK 74701.
City of Colgate | City Hall, 3 South Main Street, Coalgate, OK 74538.
City of Lehigh | Coal County Courthouse, 4 North Main Street, Coalgate, OK 74538.
City of Tupelo | Coal County Courthouse, 4 North Main Street, Coalgate, OK 74538.
Town of Phillips | Coal County Courthouse, 4 North Main Street, Coalgate, OK 74538.
Unincorporated Areas of Coal County | Coal County Courthouse,4 North Main Street, Coalgate, OK 74538.
Hanson County, South Dakota and Incorporated Areas
Docket No.: FEMA-B-2264
City of Alexandria | City Hall, 421 Main Street, Alexandria, SD 57311.
City of Emery | City Hall, 560 South Dakota Highway 262, Emery, SD 57332.
Town of Fulton | City Hall, 126 West 6th Street, Fulton, SD 57340.
Unincorporated Areas of Hanson County | Hanson County Courthouse, 720 5th Street, Alexandria, SD 57311.

[FR Doc. 2024-08523 Filed 4-19-24; 8:45 am]

BILLING CODE 9110-12-P